DEPARTMENT OF HEALTH AND HUMAN SERVICES

Centers for Disease Control and Prevention

[Program Announcement 04011]

Grants for Injury Control Research Centers; Notice of Availability of Funds

Correction

In notice document 03-21514 beginning on page 50778 in the issue of Friday, August 22, 2003, make the following correction:

On page 50778, in the first column, under the heading Application Deadline: “ September 22, 2003” should read “ November 20, 2003”.

[FR Doc. C3-21514 Filed 8-29-03; 8:45 am]

BILLING CODE 1505-01-D